DEPARTMENT OF THE INTERIOR

Minerals Management Service

Agency Information Collection Activities: Submitted for Office of Management and Budget (OMB) Review; Comment Request

AGENCY: Minerals Management Service (MMS), Interior.

ACTION: Notice of an extension of a currently approved information collection (OMB Control Number 1010-0087).

SUMMARY: To comply with the Paperwork Reduction Act of 1995 (PRA), we are notifying the public that we have submitted to OMB an information collection request (ICR) to renew approval of the paperwork requirements in the regulations under 30 CFR Part 228—Cooperative Activities with States and Indian Tribes. This notice also provides the public a second opportunity to comment on the paperwork burden of these regulatory requirements. The ICR is titled “30 CFR Part 228 Cooperative Activities with States and Indian Tribes.

DATES: Submit written comments on or before September 4, 2003.

ADDRESSES: Submit written comments either by fax (202) 395-5806 or e-mail (Ruth_Solomon@omb.eop.gov) directly to the Office of Information and Regulatory Affairs, OMB, Attention: Desk Officer for the Department of the Interior (OMB Control Number 1010-0087). Mail or hand-carry a copy of your comments to Sharron L. Gebhardt, Regulatory Specialist, Minerals Management Service, Minerals Revenue Management, P.O. Box 25165, MS 320B2, Denver, Colorado 80225. If you use an overnight courier service, our courier address is Building 85, Room A-614, Denver Federal Center, Denver, Colorado 80225.

FOR FURTHER INFORMATION CONTACT: Sharron L. Gebhardt by telephone (303) 231-3211 or fax (303) 231-3781. You may also contact Sharron Gebhardt to obtain a copy at no cost of the regulations that require the subject collection of information.

SUPPLEMENTARY INFORMATION: Title: 30 CFR Part 228—Cooperative Activities with States and Indian Tribes.

OMB Control Number: 1010-0087.

Bureau Form Number: None.

Abstract: The Department of the Interior (DOI) is responsible for matters relevant to mineral resource development on Federal and Indian lands and the Outer Continental Shelf (OCS). The Secretary of the Interior (Secretary) under the Mineral Leasing Act (30 U.S.C. 1923) and the Outer Continental Shelf Lands Act (43 U.S.C. 1353) is responsible for managing the production of minerals from Federal and Indian lands and the OCS, collecting royalties from lessees who produce minerals, and distributing the funds collected in accordance with applicable laws. The Secretary has an Indian trust responsibility to manage Indian lands and seek advice and information from Indian beneficiaries. MMS performs the royalty management functions and assists the Secretary in carrying out DOI's Indian trust responsibility.

The Secretary of the Interior is authorized by Public Law 97-451, the Federal Oil and Gas Royalty Management Act of 1982 (FOGRMA), 30 U.S.C. 1732, and 30 U.S.C. 1701 et seq. to enter into cooperative agreements using the capabilities of tribes to carry out royalty audits and related investigation and enforcement activities. The Federal Oil and Gas Royalty Simplification and Fairness Act of 1996 (RSFA), Public Law 104-185, as corrected by Public Law 104-200, amended FOGRMA and essentially limited 30 CFR Part 228 to Indian tribes. As noted under 30 CFR Part 228.3, this part does not apply to Federal lands. Federal lands are audited by States under the provisions of 30 CFR Part 227, Delegation to States. Cooperative agreements benefit both MMS and Indian tribes by helping to ensure proper product valuation, correct and timely production reporting, and correct and timely royalty payment through the application of an aggressive and comprehensive audit program. To be considered for a cooperative agreement, Indian tribes must comply with the regulations at 30 CFR Part 228 by submitting a written request to the Director, MMS, and preparing a proposal that details the work to be done.

Currently, eight Indian tribes have cooperative audit agreements to perform audits and investigations. When an Indian tribe performs any of the delegated functions under the 30 CFR Part 228 regulations, the Indian tribe also assumes the burden of providing various types of information to MMS. This information, provided to MMS in the course of performing cooperative agreements, is the focus of this information collection. We have changed the title of this ICR from “Cooperative Agreements” to “30 CFR Part 228, Cooperative Activities with States and Indian Tribes” for consistency with the regulatory language we are covering under 30 CFR Part 228.

We are also revising this ICR to include reporting requirements that were inadvertently overlooked when the final rule was published. See the chart below for these requirements and associated burden hours.

MMS is requesting OMB's approval to continue to collect this information. Not collecting this information would limit the Secretary's ability to discharge his/her duties and may also result in loss of royalty payments to the Indian lessor due to royalties not being collected. Proprietary information submitted is protected, and there are no questions of a sensitive nature included in this information collection. The requirement to respond is voluntary.

Frequency: Quarterly, annually, or when deemed necessary.

Estimated Number and Description of Respondents: Eight Indian tribes currently have cooperative audit agreements.

Estimated Annual Reporting and Recordkeeping “Hour” Burden: 1,912 hours.

The following chart details the individual components and estimated hour burdens. In calculating the burdens, we assumed that respondents perform certain requirements in the normal course of their activities. Therefore, we consider these to be usual and customary and took that into account in estimating the burden.

Tribal Respondent Annual Burden Hour Chart
30 CFR Section | Reporting requirement | Burden hours per response | Annual number of responses | Annual burden Phours
228.100 (a) and (b)(1), (2), (3), and (4); 228.101(a), (c); 228.107(b) | * * * Indian tribe may request the Department to enter into a cooperative agreement by sending a letter from the * * * tribal chairman * * * to the Director of MMS. The request for an agreement shall be in a format prescribed by MMS * * * Agreements * * * shall be valid for * * * 3 years and shall be renewable * * * upon request of the * * * Indian tribe * * * Indian tribe may unilaterally terminate an agreement by giving a 120-day written notice of intent to terminate. Each cooperative agreement shall contain detailed schedules identifying those activities and costs which qualify for funding and the procedures, timing, and mechanics for implementing Federal funding | 200 | 1 | 200
228.101(d) | * * * Indian tribe will be given 60-days to respond to the notice of deficiencies and to provide a plan for correction of those deficiencies | 80 | 1 | 80
228.103 (a) and (b) | The * * * Indian tribe entering into a cooperative agreement * * * must retain all records, reports, working papers, and any backup materials * * * The * * * Indian tribe shall maintain all books and records * * * | 120 | 8 | 960
228.105(a) (1) and (2) | The Department may * * * reimburse the * * * Indian tribe up to 100 percent of the costs of eligible activities. Eligible activities will be agreed upon annually upon the submission and approval of a workplan and funding requirement. A cooperative agreement may be entered into with * * * Indian tribe, upon request, without a requirement for reimbursement of costs by the Department | 60 | 8 | 480
228.105(c) | The * * * Indian tribe shall submit a voucher for reimbursement of eligible costs incurred within 30-days of the end of each calendar quarter. The * * * Indian tribe must provide the Department a summary of costs incurred, for which the * * * Indian tribe is seeking reimbursement, with the voucher | 4 | 48 | 192
Total |  |  | 66 | 1,912

Estimated Annual Reporting and Recordkeeping “Non-hour” Cost Burden: We have identified no “non-hour” cost burdens.

Public Disclosure Statement: The PRA (44 U.S.C. 3501, et seq.) provides that an agency may not conduct or sponsor, and a person is not required to respond to, a collection of information unless it displays a currently valid OMB Control Number.

Comments: Section 3506(c)(2)(A) of the PRA requires each agency “* * * to provide notice * * * and otherwise consult with members of the public and affected agencies concerning each proposed collection of information * * *.” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, we published a notice in the Federal Register on May 5, 2003 (68 FR 23759), announcing that we would submit this ICR to OMB for approval. The notice provided the required 60-day comment period. We received no comments in response to this notice.

If you wish to comment in response to this notice, you may send your comments to the offices listed under the ADDRESSES section of this notice. OMB has up to 60 days to approve or disapprove the information collection but may respond after 30 days. Therefore, to ensure maximum consideration, OMB should receive public comments by September 4, 2003.

Public Comment Policy: We will post all comments in response to this notice on our Web site at http://www.mrm.mms.gov/Laws_R_D/InfoColl/InfoColCom.htm. We will also make copies of the comments available for public review, including names and addresses of respondents, during regular business hours at our offices in Lakewood, Colorado. Individual respondents may request that we withhold their home address from the public record, which we will honor to the extent allowable by law. There also may be circumstances in which we would withhold from the rulemaking record a respondent's identity, as allowable by law. If you request that we withhold your name and/or address, state this prominently at the beginning of your comment. However, we will not consider anonymous comments. We will make all submissions from organizations or businesses, and from individuals identifying themselves as representatives or officials of organizations or businesses, available for public inspection in their entirety.

MMS Information Collection Clearance Officer: Jo Ann Lauterbach, (202) 208-7744.

Dated: July 25, 2003.
Lucy Querques Denett,
Associate Director for Minerals Revenue Management.

[FR Doc. 03-19914 Filed 8-4-03; 8:45 am]

BILLING CODE 4310-MR-P